DEPARTMENT OF COMMERCE

Foreign-Trade Zones Board

[S-213-2025]

Foreign-Trade Zone 46; Application for Subzone; General Electric Company; Peebles, Ohio

An application has been submitted to the Foreign-Trade Zones (FTZ) Board by Greater Cincinnati FTZ, Inc., grantee of FTZ 46, requesting subzone status for the facility of General Electric Company, located in Peebles, Ohio. The application was submitted pursuant to the provisions of the Foreign-Trade Zones Act, as amended (19 U.S.C. 81a-81u), and the regulations of the FTZ Board (15 CFR part 400). It was formally docketed on July 10, 2025.

The proposed subzone (4,613 acres) is located at 1956 Peach Mountain Lane, Peebles, Ohio. No authorization for production activity has been requested at this time. The proposed subzone would be subject to the existing activation limit of 2,000 acres for FTZ 46.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is August 25, 2025. Rebuttal comments in response to material submitted during the foregoing period may be submitted through September 8, 2025.

A copy of the application will be available for public inspection in the “Online FTZ Information Section” section of the FTZ Board's website, which is accessible via www.trade.gov/ftz.

For further information, contact Juanita Chen at juanita.chen@trade.gov.

Dated: July 10, 2025.
Camille R. Evans,
Acting Executive Secretary.

[FR Doc. 2025-13239 Filed 7-14-25; 8:45 am]

BILLING CODE 3510-DS-P